DEPARTMENT OF TRANSPORTATION

Federal Aviation Administration

14 CFR Part 39

[Docket No. FAA-2011-0099; Directorate Identifier 2010-SW-085-AD]

RIN 2120-AA64

Airworthiness Directives; Sikorsky Aircraft Corporation Model S-76A, S-76B, and S-76C Helicopters Modified by Supplemental Type Certificate SR09211RC

AGENCY: Federal Aviation Administration, DOT.

ACTION: Notice of proposed rulemaking (NPRM).

SUMMARY: We propose to adopt a new airworthiness directive (AD) for all Sikorsky Aircraft Corporation (Sikorsky) S-76 model helicopters with a certain life raft deployment system (LRDS) installed per Supplemental Type Certificate (STC) SR09211RC. This proposed AD would require removing and replacing the pilot or co-pilot life raft deployment handle (handle) located on the left side of the “broom closet” of the helicopter. This proposed AD is prompted by an incident that occurred where the handle bent prior to the life raft deploying, and this prohibited the crew from successfully deploying and using the life raft. It was determined that the handle in this incident was not manufactured to the approved Type Design. We are proposing this AD to prevent the bending of the handle, which could result in failure of the life raft to deploy. This failure could lead to loss of access to the life raft after an emergency ditching on water.

DATES: We must receive comments on this proposed AD by May 2, 2011.

ADDRESSES: Use one of the following addresses to comment on this proposed AD:

• Federal eRulemaking Portal: Go to http://www.regulations.gov. Follow the instructions for submitting comments.

• Fax: (202) 493-2251.

• Mail: U.S. Department of Transportation, Docket Operations, M-30, West Building Ground Floor, Room W12-140, 1200 New Jersey Avenue, SE., Washington, DC 20590.

• Hand Delivery: U.S. Department of Transportation, Docket Operations, M-30, West Building Ground Floor, Room W12-140, 1200 New Jersey Avenue, SE., Washington, DC 20590, between 9 a.m. and 5 p.m., Monday through Friday, except Federal holidays.

You may get the service information identified in this proposed AD from Aero Seats and Systems, Inc., 340 Thomas Place, Everman, Texas 76140, telephone (817) 551-0818, fax (817) 551-0838, e-mail rcrouch@aeroseatsandsystems.com.

You may examine the comments to this proposed AD in the AD docket on the Internet at http://www.regulations.gov.

FOR FURTHER INFORMATION CONTACT: Martin Crane, Aviation Safety Engineer, FAA, Rotorcraft Directorate, Rotorcraft Certification Office, 2601 Meacham Blvd., Fort Worth, Texas 76137, telephone (817) 222-5170, fax (817) 222-5783.

SUPPLEMENTARY INFORMATION:

Comments Invited

We invite you to send any written relevant data, views, or arguments regarding this proposed AD. Send your comments to an address listed under the ADDRESSES section. Include “Docket No. FAA-2011-0099, Directorate Identifier 2010-SW-085-AD” at the beginning of your comments. We specifically invite comments on the overall regulatory, economic, environmental, and energy aspects of the proposed AD. We will consider all comments received by the closing date and may amend the proposed AD in light of those comments.

We will post all comments we receive, without change, to http://www.regulations.gov, including any personal information you provide. We will also post a report summarizing each substantive verbal contact we receive concerning this proposed AD. Using the search function of our docket Web site, you can find and read the comments to any of our dockets, including the name of the individual who sent or signed the comment. You may review the DOT's complete Privacy Act Statement in the Federal Register published on April 11, 2000 (65 FR 19477-78).

Examining the Docket

You may examine the docket that contains the proposed AD, any comments, and other information in person at the Docket Operations office between 9 a.m. and 5 p.m., Monday through Friday, except Federal holidays. The Docket Operations office (telephone (800) 647-5527) is located in Room W12-140 on the ground floor of the West Building at the street address stated in the ADDRESSES section. Comments will be available in the AD docket shortly after receipt.

Discussion

We propose to adopt a new AD for the Sikorsky S-76A, S-76B, and S-76C model helicopters with an Aero Seats and Systems, Inc. (ASI) ASI-500 LRDS installed per STC SR09211RC. This proposed AD would require removing and replacing the handle located on the left side of the broom closet. This proposed AD is prompted by an incident that occurred in the United Kingdom (UK), and was reported under the UK Civil Aviation Authority's Mandatory Occurrence Reporting System (MOR ref 200800658). Investigation of this incident determined that the handle bent prior to the life raft deploying, and this prohibited the crew from successfully deploying and using the life raft. It was determined that the installed handle was not manufactured to the approved Type Design, resulting in the handle being under-strength for its intended purpose. The installed handle was a tube handle welded to a machined cam. This condition, if not corrected, could result in failure of the life raft to deploy, which could lead to loss of access to the life raft after an emergency ditching on water.

We have reviewed ASI's Alert Service Bulletin No. 76-500-02, Revision C, dated September 16, 2010 (ASB), which describes procedures for removing the handle (tube handle welded to a machined cam), part number (P/N) ASI-700-45, and replacing it with the handle assembly, P/N ASI-700-49A, which is a one piece machined handle and cam, designed to provide more strength.

We are proposing this AD because we have evaluated all the relevant information and determined the unsafe condition described previously is likely to exist or develop on other helicopters of the same type design. Therefore, this proposed AD would require the following actions within the next 100 hours time-in-service (TIS), unless previously accomplished:

• Install the safety pins, P/N ASI-625-14, to lock out the raft deployment pods.

• Remove the pad, P/N BA7601.

• Remove the top cover, P/N ASI-700-73.

• Remove the cotter pin, P/N AN381-2-8, from the clevis pin, P/N MS 20392-2C9, located at the crew release handle assembly.

• Remove the washer, P/N AN960-10L, and clevis pin from the cable, P/N 2604750-90.

• Disconnect the cable from the handle, P/N ASI-700-45, and secure the cable to the broom closet to prevent it from falling into the lower cover.

• Remove the handle by removing the bolt, P/N AN4-11; nut, P/N MS20364-428A; and washers, P/N AN960-416L, from the raft deployment handle assembly (handle assembly), P/N ASI-700-41A.

• Remove the safety pin, P/N ASI-700-80.

• Remove and discard any ball bearings, and clean all surfaces of the remaining handle assembly.

• Install the handle, P/N ASI-700-49A.

• Reinstall the bolt, nut, and washers, P/N AN960-416L, and install the washer, P/N ASI-700-44, between the handle and the mount, P/N ASI-700-43, on the left side of the broom closet, and torque to 20 in-lb maximum.

• Reinstall the safety pin.

• Release the cable from the broom closet.

• Reinstall the cable to the handle with the clevis pin.

• Reinstall the washer, P/N AN960-10L, and the cotter pin on to the clevis pin.

• Reinstall the top cover.

• Reinstall the pad.

• Remove the raft deployment pod lock out safety pins.

These proposed actions are intended to prevent the handle from bending during raft deployment, which could lead to loss of access to the life raft after an emergency ditching on water.

Differences Between This Proposed AD and Service Information

This proposed AD differs from the manufacturer's service bulletin by requiring compliance to the actions specified in this AD within 100 hours TIS, unless accomplished previously. The manufacturer's service bulletin states that compliance must occur immediately upon receipt of a new design handle.

Costs of Compliance

We estimate that this proposed AD would affect 65 helicopters on the U.S. registry. We estimate it will take about 4 work-hours per helicopter to accomplish the proposed requirements. The average labor rate is $85 per work-hour. In addition, we estimate the cost of the required parts to be $1,500 per helicopter. Based on these figures, we estimate the cost of the proposed AD to be approximately $1,840 per helicopter and $119,600 total cost for U.S. operators.

Regulatory Findings

We have determined that this proposed AD would not have federalism implications under Executive Order 13132. Additionally, this proposed AD would not have a substantial direct effect on the States, on the relationship between the national Government and the States, or on the distribution of power and responsibilities among the various levels of government.

For the reasons discussed above, I certify that the proposed regulation:

1. Is not a “significant regulatory action” under Executive Order 12866;

2. Is not a “significant rule” under the DOT Regulatory Policies and Procedures (44 FR 11034, February 26, 1979); and

3. Will not have a significant economic impact, positive or negative, on a substantial number of small entities under the criteria of the Regulatory Flexibility Act.

We prepared a draft economic evaluation of the estimated costs to comply with this proposed AD. See the AD docket to examine the draft economic evaluation.

Authority for This Rulemaking

Title 49 of the United States Code specifies the FAA's authority to issue rules on aviation safety. Subtitle I, Section 106, describes the authority of the FAA Administrator. Subtitle VII, Aviation Programs, describes in more detail the scope of the Agency's authority.

We are issuing this rulemaking under the authority described in Subtitle VII, Part A, Subpart III, Section 44701, “General requirements.” Under that section, Congress charges the FAA with promoting safe flight of civil aircraft in air commerce by prescribing regulations for practices, methods, and procedures the Administrator finds necessary for safety in air commerce. This regulation is within the scope of that authority because it addresses an unsafe condition that is likely to exist or develop on products identified in this rulemaking action.

List of Subjects in 14 CFR Part 39

Air transportation, Aircraft, Aviation safety, Safety.

The Proposed Amendment

Accordingly, under the authority delegated to me by the Administrator, the FAA proposes to amend 14 CFR Part 39 as follows:

PART 39—AIRWORTHINESS DIRECTIVES

1. The authority citation for part 39 continues to read as follows:

Authority: 49 U.S.C. 106(g), 40113, 44701.

§ 39.13 [Amended]

2. The FAA amends § 39.13 by adding the following new AD:

Sikorsky Aircraft Corporation: Docket No. FAA-2011-0099; Directorate Identifier 2010-SW-085-AD.

Applicability: S-76A, S-76B, and S-76C model helicopters with Aero Seats and Systems, Inc. (ASI) ASI-500 Life Raft Deployment System (LRDS) installed per FAA Supplemental Type Certificate SR09211RC, pilot or co-pilot life raft deployment handle (handle), part number (P/N) ASI-700-45, certificated in any category.

Compliance: Required within 100 hours time-in-service, unless accomplished previously.

To prevent the bending of the handle, which could result in failure of the life raft to deploy, resulting in the loss of access to the life raft after an emergency ditching on water, accomplish the following:

(a) Install the safety pins, P/N ASI-625-14, to lock out the raft deployment pods.

(b) Remove the pad, P/N BA7601.

(c) Remove the top cover, P/N ASI-700-73.

(d) Remove the cotter pin, P/N AN381-2-8, from the clevis pin, P/N MS 20392-2C9, located at the crew release handle assembly.

(e) Remove the washer, P/N AN960-10L, and clevis pin from the cable, P/N 2604750-90.

(f) Disconnect the cable from the handle, and secure the cable to the broom closet to prevent it from falling into the lower cover.

(g) Remove the handle by removing the bolt, P/N AN4-11, nut, P/N MS20364-428A, and washers, P/N AN960-416L, from the raft deployment handle assembly (handle assembly), P/N ASI-700-41A.

(h) Remove the safety pin, P/N ASI-700-80.

(i) Remove and discard any ball bearings, and clean all surfaces of the remaining handle assembly.

(j) Install the handle, P/N ASI-700-49A.

(k) Reinstall the bolt, nut, and washers, P/N AN960-416L, and install the washer, P/N ASI-700-44, between the handle and the mount, P/N ASI-700-43, on the left side of the broom closet, and torque to 20 in-lb maximum.

(l) Reinstall the safety pin.

(m) Release the cable from the broom closet.

(n) Reinstall the cable to the handle with the clevis pin.

(o) Reinstall the washer, P/N AN960-10L, and the cotter pin on to the clevis pin.

(p) Reinstall the top cover.

(q) Reinstall the pad.

(r) Remove the raft deployment pod lock out safety pins.

Note: Aero Seats and Systems, Inc., Alert Service Bulletin No. 76-500-02, Revision C, dated September 16, 2010, which is not incorporated by reference, contains additional information about the subject of this airworthiness directive.

(s) To request a different method of compliance or a different compliance time for this AD, follow the procedures in 14 CFR 39.19. Contact the Manager, Rotorcraft Certification Office, FAA, Attn: Martin Crane, Aerospace Engineer, FAA, Rotorcraft Directorate, Rotorcraft Certification Office, 2601 Meacham Blvd., Fort Worth, Texas 76137, telephone (817) 222-5170, fax (817) 222-5783, e-mail Martin.R.Crane@faa.gov for information about previously approved alternative methods of compliance.

(t) The Joint Aircraft System/Component (JASC) Code 2564: is: Life raft.

Issued in Fort Worth, Texas, on January 27, 2011.
Kim Smith,
Manager, Rotorcraft Directorate, Aircraft Certification Service.

[FR Doc. 2011-4477 Filed 2-28-11; 8:45 am]

BILLING CODE 4910-13-P